SMALL BUSINESS ADMINISTRATION

[Disaster Declaration #20753 and #20754; GEORGIA Disaster Number GA-20014]

Presidential Declaration Amendment of a Major Disaster for Public Assistance Only for the State of Georgia

AGENCY: U.S. Small Business Administration.

ACTION: Amendment 6.

SUMMARY: This is an amendment of the Presidential declaration of a major disaster for Public Assistance Only for the State of Georgia (FEMA-4830-DR), dated October 9, 2024.

Incident: Hurricane Helene.

DATES: Issued on November 4, 2024.

Incident Period: September 24, 2024 through October 30, 2024.

Physical Loan Application Deadline Date: December 9, 2024.

Economic Injury (EIDL) Loan Application Deadline Date: July 9, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Georgia, dated October 9, 2024 is hereby amended to update the incident period for this disaster as beginning September 24, 2024 and continuing through October 30, 2024.

All other information in the original declaration remains unchanged.

(Catalog of Federal Domestic Assistance Number 59008)

Alejandro Contreras,
Acting Deputy Associate Administrator, Office of Disaster Recovery & Resilience.

[FR Doc. 2024-26034 Filed 11-7-24; 8:45 am]

BILLING CODE 8026-09-P